DEPARTMENT OF LABOR

Employment and Training Administration

[TA-W-64,116]

Woodgrain Millwork, Inc., Fruitland Mill Division, Fruitland Prefinish Division, Fruitland, ID; Amended Certification Regarding Eligibility To Apply for Worker Adjustment Assistance and Alternative Trade Adjustment Assistance

In accordance with Section 223 of the Trade Act of 1974 (19 U.S.C. 2273), and Section 246 of the Trade Act of 1074 (26 U.S.C. 2813), as amended, the Department of Labor issued a Certification of Eligibility to Apply for Worker Adjustment Assistance and Alternative Trade Adjustment Assistance on October 20, 2008, applicable to workers and former workers of Woodgrain Millwork, Inc., Fruitland Mill Division, Fruitland, Idaho. The Notice of determination was published in the Federal Register on November 10, 2008 (73 FR 66676). Workers produce door components and are not separately identifiable by articles produced.

At the request of a subject firm official, the Department reviewed the certification for workers of the subject firm. The review shows that the petition was filed by a company official on behalf of workers of Woodgrain Millwork, Inc., Fruitland, Idaho.

New information provided by the company official show that the subject facility consisted of two divisions, Millwork Division and Prefinish Division, and that the workers are not separately identifiable by article produced or Division. The Millwork Division milled the component pieces, and then the Prefinish Division treated the milled pieces before they were sent to the customer.

Accordingly, the Department is amending the certification to properly reflect this matter.

The intent of the Department's certification is to include all workers of Woodgrain Millwork, Inc., Fruitland, Idaho, who are secondarily-affected by increased imports.

The amended notice applicable to TA-W-64,116 is hereby issued as follows:

All workers of Woodgrain Millwork, Inc., Fruitland, Idaho, Fruitland Millwork Division and Fruitland Prefinish Division, Fruitland, Idaho, who became totally or partially separated from employment on or after September 16, 2007, through October 20, 2010, are eligible to apply for adjustment assistance under Section 223 of the Trade Act of 1974, and are also eligible to apply for alternative trade adjustment assistance under Section 246 of the Trade Act of 1974.

Signed at Washington, DC, this 30th day of January 2009.
Elliott S. Kushner,
Certifying Officer, Division of Trade Adjustment Assistance.

[FR Doc. E9-3034 Filed 2-12-09; 8:45 am]

BILLING CODE 4510-FN-P